DEPARTMENT OF ENERGY

Federal Energy Regulatory Commission

[Docket Nos. IC13-19-000 and IC13-20-000]

Commission Information Collection Activities (FERC-511 and FERC-515); Comment Request

AGENCY: Federal Energy Regulatory Commission.

ACTION: Request for comments.

SUMMARY: In compliance with the requirements of the Paperwork Reduction Act of 1995, 44 U.S.C. 3507(a)(1)(D), the Federal Energy Regulatory Commission (Commission or FERC) is submitting the information collections, FERC-511 (Transfer of Hydropower License ¹) and FERC-515 (Rules of Practice and Procedure: Declaration of Intention), to the Office of Management and Budget (OMB) for review of the information collection requirements. Any interested person may file comments directly with OMB and should address a copy of those comments to the Commission as explained below. The Commission issued Notices in the Federal Register (for FERC-511 at 78 FR 49490, 8/14/2013, and for FERC-515 at 78 FR 49489, 8/14/2013) requesting public comments. FERC received no comments.

¹ This collection was formerly called the “Application for Transfer of License”; the reporting requirements are not being revised.

DATES: Comments on the collections of information are due November 29, 2013.

ADDRESSES: Comments filed with OMB, identified by the OMB Control Nos. 1902-0069 (FERC-511) and 1902-0079 (FERC-515) should be sent via email to the Office of Information and Regulatory Affairs at oira_submission@omb.gov, Attention: Federal Energy Regulatory Commission Desk Officer. The OMB Desk Officer may also be reached via telephone at 202-395-4718.

A copy of the comments should also be sent to the Federal Energy Regulatory Commission, identified by the Docket Nos. IC13-19-000 and IC13-20-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in these dockets or in viewing/downloading comments and issuances in these dockets may do so at http://www.ferc.gov/docs-filing/docs-filing.asp.

FOR FURTHER INFORMATION: Ellen Brown may be reached by email at DataClearance@FERC.gov, telephone at (202) 502-8663, and fax at (202) 273-0873.

SUPPLEMENTARY INFORMATION: This notice is combined for administrative purposes only. The FERC-511 and FERC-515 will remain separate information collections with separate OMB Control Numbers.

FERC-511

Title: Transfer of Hydropower License.

OMB Control No.: 1902-0069.

Type of Request: Three-year extension of the FERC-511 information collection requirements with no changes to the current reporting requirements.

Abstract: The Commission uses the information collected under the requirements of FERC-511 to implement the statutory provisions of Sections 4(e) and 8 of the Federal Power Act (FPA).² Section 4(e) authorizes the Commission to issue licenses for the construction, operation and maintenance of reservoirs, powerhouses, and transmission lines or other facilities necessary for the development and improvement of navigation and for the development, transmission, and utilization of power.³ Section 8 of the FPA provides that the voluntary transfer of any license is made only with the written approval of the Commission. Any successor to the licensee may assign the rights of the original licensee but is subject to all of the conditions of the license. The information filed with the Commission is a mandatory requirement contained in the format of a written application for transfer of license, executed jointly by the parties of the proposed transfer. The sale or merger of a licensed hydroelectric project may occasion the transfer of a license. The Commission's staff uses the information collection to determine the qualifications of the proposed transferee to hold the license and to prepare the transfer of the license order. Approval by the Commission of transfer of a license is contingent upon the transfer of title to the properties under license, delivery of all license instruments, and evidence that such transfer is in the public interest. The Commission implements these filing requirements in the Code of Federal Regulations (CFR) under 18 CFR Part 9.

² 16 U.S.C. 797(e) and 801.

³ Refers to facilities across, along, from, or in any of the streams or other bodies of water over which Congress has jurisdiction under its authority to regulate commerce with foreign nations and among the several States, or upon any part of public lands and reservations of the United States, or for the purpose of utilizing the surplus water or water power from any Government dam.

Type of Respondents: Hydropower Project Licensees.

Estimate of Annual Burden: ⁴ The Commission estimates the total annual Public Reporting Burden for this information collection as:

⁴ The Commission defines burden as the total time, effort, or financial resources expended by persons to generate, maintain, retain, disclose, or provide information to or for a Federal agency. For further explanation of what is included in the information collection burden, refer to 5 CFR 1320.3.

FERC-511—Transfer of Hydropower License
Number of respondents | Number of responses per respondent | Total number of responses | Average burden hours per response | Estimated total annual burden
(A) | (B) | (A) × (B) = (C) | (D) | (C) × (D)
23 | 1 | 23 | 40 | 920

The total estimated annual cost burden to respondents is $64,496 [(920 hours/2080 hours per year) * $145,818/year ⁵ = $64,496].

⁵ FY (Fiscal Year) 2013 Estimated Average Annual Cost per FTE, including salary plus benefits, is $145,818. There are 2,080 hours per workyear.

FERC-515

Title: Rules of Practice and Procedure: Declaration of Intention.

OMB Control No.: 1902-0079.

Type of Request: Three-year extension of the FERC-515 information collection requirements with no changes to the current reporting requirements.

Abstract: The Commission uses the information collected under the requirements of FERC-515 to implement the statutory provisions of Section 23(b) of the FPA.⁶ Section 23(b) authorized the Commission to make a determination as to whether it has jurisdiction over a proposed water project ⁷ not affecting navigable waters ⁸ but across, along, over, or in waters over which Congress has jurisdiction under its authority to regulate commerce with foreign nations and among the several States. Section 23(b) requires that any person intending to construct project works on such waters must file a declaration of their intention with the Commission. If the Commission finds the proposed project will have an impact on interstate or foreign commerce, then the entity intending to construct the project must obtain a Commission license or exemption before starting construction.⁹ The information is collected in the form of a written application, containing sufficient details to allow the Commission staff to research the jurisdictional aspects of the project. This research includes examining maps and land ownership records to establish whether or not there is Federal jurisdiction over the lands and waters affected by the project. A finding of non-jurisdictional by the Commission eliminates a substantial paperwork burden for the applicant who might otherwise have to file for a license or exemption application. The Commission implements these filing requirements under 18 CFR Part 24.

⁶ 16 U.S.C. 817.

⁷ Dams or other project works. (See 16 U.S.C. 817.)

⁸ See 16 U.S.C. 796(8) for the definition of “Navigable Waters.”

⁹ Upon a finding of non-jurisdictional by the Commission, and if no public lands or reservations are affected, permission is granted upon compliance with State laws.

Type of Respondents: Persons intending to construct project works on certain waters described above.

Estimate of Annual Burden: The Commission estimates the total annual Public Reporting Burden for this information collection as:

FERC-515—Rules of Practice and Procedure: Declaration of Intention
Number of respondents | Number of responses per respondent | Total number of responses | Average burden hours per response | Estimated total annual burden
(A) | (B) | (A) × (B) = (C) | (D) | (C) × (D)
10 | 1 | 10 | 80 | 800

The total estimated annual cost burden to respondents is $56,084 [(800 hours/2080 hours per year) * $145,818/year ¹⁰ = $56,084].

Comments on FERC-511 and FERC-515: Comments are invited on: (1) Whether the collections of information are necessary for the proper performance of the functions of the Commission, including whether the information will have practical utility; (2) the accuracy of the agency's estimates of the burden and cost of the collections of information, including the validity of the methodology and assumptions used; (3) ways to enhance the quality, utility and clarity of the information collections; and (4) ways to minimize the burden of the collections of information on those who are to respond, including the use of automated collection techniques or other forms of information technology.

¹⁰ FY (Fiscal Year) 2013 Estimated Average Annual Cost per FTE, including salary plus benefits, is $145,818. There are 2,080 hours per workyear.

Dated: October 21, 2013.
Kimberly D. Bose,
Secretary.

[FR Doc. 2013-25438 Filed 10-28-13; 8:45 am]

BILLING CODE 6717-01-P